DEPARTMENT OF ENERGY

Federal Energy Regulatory Commission

[Docket No. RT01-67-000]

GridFlorida LLC, Florida Power & Light Co., Florida Power Corporation, and Tampa Electric Co.; Supplemental Notice of Filing

October 25, 2000.

Take notice that on October 16, 2000, Florida Power & Light Company, Florida Power Corporation, and Tampa Electric Company (collectively, the Applicants), pursuant to Sections 203 and 205 of the Federal Power Act, jointly filed their Order No. 2000 compliance filing providing for the creation of a Regional Transmission Organization (RTO). In a Notice of Filng issued October 20, 2000, the date for interventions, comments, and protests with respect to that filing was established as November 20, 2000.

The Applicants have requested, to facilitate the continuing collaborative process, that interested parties be permitted additional time to submit their comments on the portion of their Application for which an additional filing will be make on December 15, 2000.

Accordingly, any person desiring to be heard or to protest should file a motion to intervene, comments, or protests with the Federal Energy Regulatory Commission, 888 First Street, N.W., Washington, D.C. 20426, in accordance with Rules 211 and 214 of the Commission's Rules of Practice and Procedure (18 CFR 385.211 and 385.214). All such motions, comments and protests with respect to the matters for which Applicants have requested expedited treatment should be filed on or before November 20, 2000. All such motions, comments and protests with respect to the matters for which Applicants have not requested expedited treatment will be due within 30 days from the date Applicants make their additional filing implementing details of their RTO proposal. Beginning November 1, 2000, comments and protests may be filed electronically via the internet in lieu of paper. See, 18 CFR 385.2001(a)(1)(iii) and the instructions on the Commission's web site at http;//www.ferc.fed.us/efi/doorbell.htm.

David P. Boergers,
Secretary.

[FR Doc. 00-27858 Filed 10-30-00; 8:45 am]

BILLING CODE 6717-01-M